DEPARTMENT OF HOMELAND SECURITY

Federal Emergency Management Agency

[Docket ID FEMA-2016-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of April 19, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: January 22, 2016.
Roy E. Wright,
Deputy Associate Administrator for Insurance and Mitigation, Department of Homeland Security, Federal Emergency Management Agency.

Community | Community map repository address
Prowers County, Colorado, and Incorporated Areas
Docket No.: FEMA-B-1453
City of Lamar | City Hall, 102 East Parmenter Street, Lamar, CO 81052.
Town of Granada | Town Hall, 103 South Main Street, Granada, CO 81041.
Town of Holly | Town Hall, 100 Tony Garcia Drive, Holly, CO 81047.
Town of Wiley | Town Hall, 304 Main Street, Wiley, CO 81092.
Unincorporated Areas of Prowers County | Prowers County Emergency Operations Management, 301 South Main Street, Lamar, CO 81052.
Harford County, Maryland, and Incorporated Areas
Docket No.: FEMA-B-1466
City of Aberdeen | Planning Department, 60 North Parke Street, Aberdeen, MD 21001.
City of Havre De Grace | Planning Department, 711 Pennington Avenue, Havre De Grace, MD 21078.
Town of Bel Air | Planning Department, 705 East Churchville Road, Bel Air, MD 21014.
Unincorporated Areas of Harford County | Planning and Zoning Department, 220 South Main Street, Bel Air, MD 21014.
Granite County, Montana, and Incorporated Areas
Docket No.: FEMA-B-1457
Town of Drummond | Town Hall, 114 A Street, Drummond, MT 59832.
Town of Philipsburg | Town Hall, 104 South Sansome Street, Philipsburg, MT 59858.
Unincorporated Areas of Granite County | Granite County Courthouse, 220 North Sansome Street, Philipsburg, MT 59858.
Pembina County, North Dakota, and Incorporated Areas
Docket No.: FEMA-B-1462
City of Cavalier | City Hall, 301 Division Avenue North, Cavalier, ND 58220.
City of Drayton | City Hall, 122 South Main Street, Drayton, ND 58225.
City of Pembina | City Hall, 152 West Rolette Street, Pembina, ND 58271.
City of St. Thomas | City Hall, 301 Main Street, St. Thomas, ND 58276.
Township of Cavalier | Pembina County Courthouse, 301 Dakota Street West, Cavalier, ND 58220.
Township of Drayton | Pembina County Courthouse, 301 Dakota Street West, Cavalier, ND 58220.
Township of Joliette | Pembina County Courthouse, 301 Dakota Street West, Cavalier, ND 58220.
Unincorporated Areas of Pembina County | Pembina County Courthouse, 301 Dakota Street West, Cavalier, ND 58220.

[FR Doc. 2016-03227 Filed 2-16-16; 8:45 am]

BILLING CODE 9110-12-P